ENVIRONMENTAL PROTECTION AGENCY

[FRL OP-OFA-178]

Environmental Impact Statements; Notice of Availability

Responsible Agency: Office of Federal Activities, General Information 202-564-5632 or https://www.epa.gov/nepa.

Weekly receipt of Environmental Impact Statements (EIS)

Filed May 5, 2025 10 a.m. EST Through May 12, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250054, Final, USA, HI, Army Training Land Retention of State Lands at Kahuku Training Area, Kawailoa-Poamoho Training Area, and Makua Military Reservation Island of Oahu, Review Period Ends: 06/16/2025, Contact: Phi Dang 520-687-2395.

EIS No. 20250055, Draft, USAF, NV, Master Plan and Installation Development at Nellis Air Force Base, Nevada, Comment Period Ends: 06/30/2025, Contact: Daniel Fisher 210-925-2738.

EIS No. 20250056, Final, EPA, CA, ADOPTION—Vista Grande Drainage Basin Improvement Project, Golden Gate National Recreation Area, San Francisco and San Mateo Counties, Review Period Ends: 06/16/2025, Contact: Alaina McCurdy 202-564-6996.

The Environmental Protection Agency (EPA) has adopted the National Park Service's Final EIS No. 20170175 filed 09/07/2017 with the Environmental Protection Agency. The EPA was not a cooperating agency on this project. Therefore, republication of the document is necessary.

EIS No. 20250057, Final Supplement, NRC, SC, NUREG-1437, Supplement 15, Second Renewal, Generic Environmental Impact Statement for License Renewal of Nuclear Plants: Regarding Subsequent License Renewal of Virgil C. Summer Nuclear Station, Unit 1, Review Period Ends: 06/16/2025, Contact: Kim Conway 301-415-1335.

EIS No. 20250058, Final Supplement, FERC, LA, FSEIS for Venture Global CP2 LNG, LLC's et al. CP2 LNG and CP Express Pipeline Projects, Review Period Ends: 06/16/2025, Contact: Office of External Affairs 866-208-3372.

Dated: May 12, 2025.
Nancy Abrams,
Associate Director, Office of Federal Activities.

[FR Doc. 2025-08758 Filed 5-15-25; 8:45 am]

BILLING CODE 6560-50-P